INTERNATIONAL TRADE COMMISSION

[USITC SE-10-029]

Government in the Sunshine Act Meeting Notice

AGENCY HOLDING THE MEETING: United States International Trade Commission.

TIME AND DATE: October 22, 2010 at 2 p.m.

PLACE: Room 101, 500 E Street, SW., Washington, DC 20436, Telephone: (202) 205-2000.

STATUS: Open to the public.

MATTERS TO BE CONSIDERED: 1. Agenda for future meetings: None.

2. Minutes.

3. Ratification List.

4. Inv. Nos. 701-TA-470-471 and 731-TA-1169-1170 (Final) (Certain Coated Paper Suitable for High-Quality Graphics Using Sheet-Fed Presses From China and Indonesia)—briefing and vote. (The Commission is currently scheduled to transmit its determinations and Commissioners' opinions to the Secretary of Commerce on or before November 10, 2010.)

5. Outstanding action jackets:

(1) Document No. GC-10-161 concerning Inv. No. 337-TA-413 (Certain Rare-Earth Magnets and Magnetic Materials and Articles Containing Same).

(2) Document No. GC-10-181 concerning Inv. No. 337-TA-703 (Certain Mobile Telephones and Wireless Communications Devices Featuring Digital Cameras, and Components Thereof).

In accordance with Commission policy, subject matter listed above, not disposed of at the scheduled meeting, may be carried over to the agenda of the following meeting.

Issued: October 15, 2010.
By order of the Commission.
William R. Bishop,
Hearings and Meetings Coordinator.

[FR Doc. 2010-26423 Filed 10-18-10; 11:15 am]

BILLING CODE 7020-02-P